DEPARTMENT OF THE INTERIOR

Fish and Wildlife Service

Notice of Availability of an Environmental Assessment and Receipt of an Application for an Incidental Take Permit for the Woodville Solid Waste Disposal Site Expansion Project in Tulare County, CA

AGENCY: Fish and Wildlife Service, Interior.

ACTION: Notice of availability and receipt of application.

SUMMARY: The County of Tulare Resource Management Agency, Solid Waste Division (Applicant) has applied to the Fish and Wildlife Service (Service) for an incidental take permit pursuant to section 10(a)(1)(B) of the Endangered Species Act of 1973, as amended (Act). The Service is considering the issuance of a 41-year permit to the Applicant that would authorize take of nine species incidental to the Applicant's proposed landfill expansion and operation, groundwater monitoring activities, and conservation management activities at the Woodville Solid Waste Disposal Site in Tulare County, CA. These activities on the 414-acre project area would result in the loss of up to 131 acres of covered species habitat.

We request comments from the public on the permit application and an Environmental Assessment, both of which are available for review. The permit application includes the proposed Habitat Conservation Plan (Plan) and an accompanying Implementing Agreement. The Plan describes the proposed project and the measures that the Applicant would undertake to minimize and mitigate take of the covered species.

DATES: Written comments should be received on or before October 3, 2006.

ADDRESSES: Please address written comments to Lori Rinek, Chief, Conservation Planning and Recovery Division, Fish and Wildlife Service, Sacramento Fish and Wildlife Office, 2800 Cottage Way, W-2605, Sacramento, California 95825. Comments may also be sent by facsimile to 916-414-6713.

FOR FURTHER INFORMATION CONTACT: Jesse Wild, Fish and Wildlife Biologist, or Lori Rinek, Chief, Conservation Planning and Recovery Division, Sacramento Fish and Wildlife Office, at 916-414-6600.

SUPPLEMENTARY INFORMATION:

Availability of Documents

Copies of these documents can be obtained for review by contacting the individuals named above [see FOR FURTHER INFORMATION CONTACT]. Documents also will be available for public inspection, by appointment, during normal business hours at the Sacramento Fish and Wildlife Office [see ADDRESSES].

Background

Section 9 of the Act and Federal regulations prohibit the “take” of fish and wildlife species listed as endangered or threatened. Take of federally listed fish or wildlife is defined under the Act to include the following activities: harass, harm, pursue, hunt, shoot, wound, kill, trap, capture, or collect, or to attempt to engage in any such conduct. The Service may, under limited circumstances, issue permits to authorize incidental take (i.e., take that is incidental to, and not the purpose of, the carrying out of an otherwise lawful activity). Regulations governing incidental take permits for endangered species are found in 50 CFR 17.22.

The Applicant is seeking a permit for take of two federally listed species: the endangered San Joaquin kit fox (Vulpes macrotis mutica) and the threatened vernal pool fairy shrimp (Branchinecta lynchi). The proposed permit would also authorize future incidental take of seven currently unlisted animal species: western burrowing owl (Athene cunicularia hypugea), midvalley fairy shrimp (Branchinecta mesovallensis), San Joaquin tiger beetle (Cicindela tranquebarica), Hopping's blister beetle (Lytta hoppingi), moestan blister beetle (Lytta moesta), molestan blister beetle (Lytta molesta), and Morrison's blister beetle (Lytta morrisoni). The following four unlisted plant species are also proposed to be included on the permit: erect-stemmed heartscale (Atriplex erecticaulis), lesser saltscale (Atriplex miniscula), San Joaquin brittlescale (Atriplex subtilis), and recurved larkspur (Delphinium recurvatum), should any of these species become listed under the Act during the life of the permit. Take of listed plant species is not prohibited under the Act and cannot be authorized under a section 10 permit. However, plant species may be included on the permit in recognition of the conservation benefits provided for them under the Plan. These species would also receive “No Surprises” assurances under the Service's “No Surprises” regulation (50 CFR 17.22(b)(5) and 17.32(b)(5)). Collectively, the 13 listed and unlisted species are referred to as the “covered species” in the Plan.

The Applicant proposes to expand its existing landfill, the Woodville Solid Waste Disposal Site, which has nearly reached capacity. Project activities that are proposed for coverage under the Plan consist of the following components: (1) The development of additional waste management units (landfill); (2) implementation of a groundwater testing and monitoring program; (3) construction of operations facilities and creation of a borrow area, a retention basin, and a potential ground water remediation area; (4) establishment of conservation areas to compensate for impacts on covered species habitat; and (5) management activities on the conservation areas, including continued agricultural operations in one area and implementation of possible fire management activities. The facility is projected to reach capacity approximately 41 years after expansion begins.

Project activities would result in the loss of 53.32 acres of suitable grassland habitat for the covered species (including 1.77 acres of vernal pool wetlands) and an additional loss of 77.58 acres of agricultural habitat which is not likely to function as kit fox denning habitat, but which can be used by kit foxes for foraging or movement.

Western burrowing owls and the covered plant species were observed in the project area. No other covered animal species was known to occur at the time of reconnaissance surveys, although suitable habitat exists and the site may be used for foraging and/or reproduction. The construction and operation of the facilities is unlikely to result in direct mortality or injury of San Joaquin kit foxes, but may result in take in the form of harassment.

The Applicant proposes to implement specific on-site measures to avoid and minimize take and associated adverse project impacts to covered species. The Applicant also proposes to mitigate for take by establishing two permanent conservation areas; deed restrictions will be established on 158.26 acres of grassland (which include 5.35 acres of vernal pools) and on 124.95 acres of agricultural habitat suitable for kit fox foraging. Activities associated with management of the conservation areas include survey activities, possible fire management activities, and ongoing farming activities on the agricultural area. Additionally, a research program will be implemented to study the structure, dynamics, and ecology of alkali scalds. This research program has been accepted by the Service as an appropriate action for the adaptive management of vernal pool fairy shrimp and mid-valley fairy shrimp due to the uncertainty regarding the species' presence and life history in the alkali pool type found in the project area. This research is designed to determine occurrence of fairy shrimp species in this habitat type and study the physical nature of alkali scalds to identify the specific parameters that promote or restrict species occurrence.

The Service's Environmental Assessment considers the environmental consequences of three alternatives. The Proposed Project Alternative consists of the issuance of the incidental take permit and implementation of the Plan and Implementing Agreement for the Applicant's proposed project which includes the activities described above. This preferred alternative would take 53.32 acres of grassland habitat and 77.58 acres of agricultural habitat. Mitigation for this alternative includes on-site preservation of 158.26 acres of grassland habitat and 124.95 acres of agricultural habitat. Under this alternative, the Applicant also proposes to implement a research program informing the adaptive management of vernal pool shrimp in alkali pool types.

Under Alternative 2, a Section 10 permit would be issued and the multi-species Plan and Implementing Agreement would be implemented for an alternative proposed project which comprises the same components as described in the Proposed Project Alternative except for the implementation of an alkali scalds research program. Because the research program itself would not affect any of the resources analyzed in the EA, the impacts associated with implementation of Alternative 2 are identical to those described for the Proposed Project Alternative.

Under the No Action alternative, no Section 10 permit would be issued and the multi-species HCP would not be implemented. This alternative would result in the closure of the Woodville landfill facility and implementation of a final landfill closure plan in accordance with applicable regulations. The Woodville landfill would permanently close and no conservation areas would be established. The closure plan would require the establishment of a borrow area for the dirt necessary to properly build and close the existing landfill, which would result in the loss of special-status plant species and suitable habitat for covered animal species. Groundwater monitoring activities could also adversely affect vegetation and wildlife. No conservation areas would be protected.

A number of other project alternatives that would meet the County's need to provide increased refuse disposal were also considered and eliminated for reasons described in the Environmental Assessment.

This notice is provided pursuant to section 10(a) of the Act and the regulations of the National Environmental Policy Act (NEPA) of 1969 (40 CFR 1506.6). All comments that we receive, including names and addresses, will become part of the official administrative record and may be made available to the public. We will evaluate the application, associated documents, and comments submitted thereon to determine whether the application meets the requirements of NEPA regulations and section 10(a) of the Act. If we determine that those requirements are met, we will issue a permit to the Applicant for the incidental take of the covered species. We will make our final permit decision no sooner than 60 days from the date of this notice.

Dated: July 31, 2006.
Ken McDermond,
Deputy Manager, California/Nevada Operations Office, Sacramento, California.

[FR Doc. E6-12592 Filed 8-3-06; 8:45 am]

BILLING CODE 4310-55-P